FEDERAL ELECTION COMMISSION

Sunshine Act Meeting

FEDERAL REGISTER CITATION NOTICE OF PREVIOUS ANNOUNCEMENT: 83 FR 56079.

PREVIOUSLY ANNOUNCED TIME AND DATE OF THE MEETING: Wednesday, November 14, 2018 at 10:00 a.m.

CHANGES IN THE MEETING: This meeting will also discuss:

Matters relating to internal personnel decisions, or internal rules and practices.

Investigatory records compiled for law enforcement purposes and production would disclose investigative techniques.

Information the premature disclosure of which would be likely to have a considerable adverse effect on the implementation of a proposed Commission action.

* * * * *

CONTACT PERSON FOR MORE INFORMATION: Judith Ingram, Press Officer, Telephone: (202) 694-1220.

Laura E. Sinram,
Deputy Secretary of the Commission.

[FR Doc. 2018-24902 Filed 11-9-18; 11:15 am]

BILLING CODE 6715-01-P